DEPARTMENT OF TRANSPORTATION

Federal Aviation Administration

RTCA; Special Committee 147; Minimum Operational Performance Standards for Traffic Alert and Collision Avoidance Systems Airborne Equipment

Pursuant to section 10(a)(2) of the Federal Advisory Committee Act (Pub. L. 92-463, 5 U.S.C., Appendix 2), notice is hereby given for Special Committee 147 meeting to be held February 29-March 1, 2000, starting at 9 a.m. each day. The meeting will be held at RTCA, 1140 Connecticut Avenue, NW., Suite 1020, Washington, DC, 20036.

The agenda will include: February 29: (1) Requirements Working Group Meeting. March 1: 9 a.m.-1 p.m. (2) Requirements Working Group Meeting continues; 1 p.m.-5 p.m. (3) Plenary Session: (a) Welcome and Introductory Remarks: (b) Review and Approve Previous Meeting; (c) Report and Discuss Requirements Working Group Activities; (d) Discuss Future SC-147 Activities and Plans; (4) Other Business; (5) Date and Location of Next Meeting; (6) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on February 4, 2000.
Janice L. Peters,
Designated Official.

[FR Doc. 00-3079 Filed 2-9-00; 8:45 am]

BILLING CODE 4910-13-M